DEPARTMENT OF COMMERCE

National Oceanic and Atmospheric Administration

Science Advisory Board; Meetings

AGENCY: Office of Oceanic and Atmospheric Research, NOAA, DOC.

ACTION: Notice of open meeting.

SUMMARY: The National Oceanic and Atmospheric Administration (NOAA) Science Advisory Board (SAB) was established by a Decision Memorandum dated September 25, 1997, and is the only Federal Advisory Committee with responsibility to advise the Under Secretary of Commerce for Oceans and Atmosphere on long- and short-range strategies for research, education, and application of science to resource management and environmental assessment and prediction. SAB activities and advice provide necessary input to ensure that science programs are of the highest quality and provide optimal support the NOAA mission.

Time and Date: The meeting will be held Tuesday, November 2, 2004, from 1 p.m. to 5 p.m. and Wednesday, November 3, 2004, from 9 a.m. to 5 p.m. These times and the agenda topics described below may be subject to change. Refer to the Web page listed below for the most up-to-date meeting agenda.

Place: The meeting will be held both days at the National Geographic Society Headquarters, 1145 17th Street, NW., Washington, DC.

Status: The meeting will be open to public participation with a 30-minute time period set aside on Wednesday, November 3 for direct oral statements or questions from the public. The SAB expects that public statements presented at its meetings will not be repetitive of previously submitted oral or written statements. In general, each individual or group making an oral presentation will be limited to a total time of five minutes. Written comments (at least 35 copies) should be received in the SAB Executive Director's Office by October 27, 2004, to provide sufficient time for SAB review prior to the meeting. Written comments received by the SAB Executive Director after October 27, 2004, will be distributed to the SAB, but may not be reviewed prior to the meeting date.

Approximately (30) seats will be available for the public including five seats reserved for the media. Seats will be available on a first-come, first-served basis.

Matters to be Considered: The meeting will include the following topics: (1) NOAA Response to the SAB recommendations in the Research Review Team Report “Review of the Organization and Management of Research in NOAA”, (2) Draft Strategic Plan for the U.S. Integrated Earth Observing System, (3) NOAA 5-Year Research Plan and 20-Year Research Vision, (4) Final U.S. Commission on Ocean Policy Report, (5) Regional Ecosystem Based Management, (6) Cooperative Institute For Arctic Research (CIFAR) Review, (7) Cooperative Institute for Atmospheric Sciences and Terrestrial Applications (CIASTA) Review, (8) SAB Subcommittee and Working Group Reports and (9) public statements.

FOR FURTHER INFORMATION CONTACT: Dr. Michael Uhart, Executive Director, Science Advisory Board, NOAA, Rm. 11142, 1315 East-West Highway, Silver Spring, Maryland 20910. (Phone: 301-713-9121, Fax: 301-713-3515, e-mail: Michael.Uhart@noaa.gov); or visit the NOAA SAB Web site at http://www.sab.noaa.gov.

Dated: October 20, 2004.
Louisa Koch,
Deputy Assistant Administrator, Office of Oceanic and Atmospheric Research, National Oceanic and Atmospheric Administration.

[FR Doc. 04-23888 Filed 10-25-04; 8:45 am]

BILLING CODE 3510-KD-P